DEPARTMENT OF TRANSPORTATION

Federal Aviation Administration

Approval of Noise Compatibility Program; St. Lucie County International Airport, Fort Pierce, FL

AGENCY: Federal Aviation Administration, DOT.

ACTION: Notice.

SUMMARY: The Federal Aviation Administration (FAA) announces its findings on the noise compatibility program submitted by the St. Lucie County Board of County Commissioners under the provisions of 49 U.S.C. (the Aviation Safety and Noise Abatement Act, hereinafter referred to as “the Act”) and 14 CFR part 150. These findings are made in recognition of the description of Federal and nonfederal responsibilities in Senate Report No. 96-52 (1980). On February 23, 2006, the FAA determined that the noise exposure maps submitted by the St. Lucie County Board of County Commissioners under part 150 were in compliance with applicable requirements. On August 21, 2006, the FAA approved the St. Lucie County International Airport noise compatibility program. Most of the recommendations of the program were approved.

DATES: Effective Date: The effective date of the FAA's approval of the St. Lucie County International Airport noise compatibility program is August 21, 2006.

FOR FURTHER INFORMATION CONTACT: Ms. Lindy McDowell, Federal Aviation Administration, Orlando Airports District Office, 5950 Hazeltine National Dr., Suite 400, Orlando, Florida 32822, (407) 812-6331, Extension 130. Documents reflecting this FAA action may be reviewed at this same location.

SUPPLEMENTARY INFORMATION: This notice announces that the FAA has given its overall approval to the noise compatibility program for St. Lucie County International Airport, effective August 21, 2006.

Under Section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal Program. The FAA does not substitute its judgment for that of the airport proprietor with respect to which measure should be recommended for action. The FAA's approval or disapproval of FAR Part 150 program recommendations is measured according to the standards expressed in Part 150 and the Act, and is limited to the following determinations:

a. The noise compatibility program was developed in accordance with the provisions and procedures of FAR Part 150.

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, Section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

St. Lucie County Board of County Commisioners submitted to the FAA on December 21, 2005, the noise exposure maps, descriptions, and other documentation produced during the noise compatibility planning study conducted from August 2003 through December 2005. The St. Lucie County International Airport noise exposure maps were determined by FAA to be in compliance with applicable requirements on February 23, 2006. Notice of this determination was published in the Federal Register on February 23, 2006.

The St. Lucie County Airport study contains a proposed noise compatibility program comprised of actions designed for phased implementation by airport management and adjacent jurisdictions from the year 2005 to the year 2010. It was requested that FAA evaluate and approve this material as a noise compatibility program as described in section 47504 of the Act. The FAA began its review of the program on February 23, 2006, and was required by a provision of the Act to approve or disapprove the program within 180 days (other than the use of new or modified flight procedures for noise control). Failure to approve or disapprove such program within the 180-day period shall be deemed to be an approval of such program.

The submitted program contained fourteen (14) proposed actions for noise mitigation on an off the airport. The FAA completed its review and determined that the procedural and substantive requirements of the Act and FAR Part 150 have been satisfied. The overall program, therefore, was approved by the FAA effective August 21, 2006.

Outright approval was granted for a number of the specific program elements. Three (3) measures were disapproved; one pending submission of additional information to make an informed analysis, one based on issues outside of the 65 DNL contour, and one due to lack of expected noise benefits.

Operational Measures

1. Discourage Stage 1 Aircraft Operations Unless for Life Safety, Emergency or Aircraft Recertification

Implement the voluntary discouragement of State 1 aircraft operations at FPR unless for life safety, emergency, or aircraft recertification. (Supplemental sponsor letter dated May 15, 2006; NCP, page ES-2, NCP Recommendations; pages 133-134, including Table 11.5; Figure 11.3.)

FAA Action: Approved as voluntary, for purposes of Part 150. This measure is recommended on a voluntary basis, and may not be imposed as mandatory nor may aircraft owners or pilots be penalized if they do not choose to voluntarily comply. Estimated benefits of implementing the measure on a voluntary basis are shown on page 134, and show a reduction of impacts to 47 people presently within the 60 DNL noise contour.

2. Maintain Voluntary Touch and Go Training Procedures

• Touch and Go training acceptable between 8 a.m. and 2 hours after sunset (Monday through Saturday), and Touch and Go training not acceptable on Sundays or Holidays (Sponsor supplemental letter dated May 15, 2006 and NCP, pages ES-2, 134-136, and Table 11.7).

FAA Action: Disapproved pending submission of additional information to make an informed analysis. The NCP did not evaluate the benefit of this specific measure. The FAA recognizes that the procedures are currently being used on a voluntary basis as traffic, weather and airspace safety and efficiency permit. This disapproval does not prohibit the sponsor from implementing this voluntary procedure.

3. Runway 14 Preferred in Calm Wind

Runway 14 is preferred for calm wind operation (until construction of the new runway 9L/27R) (Sponsor supplemental letter dated May 15, 2006; NCP, page ES-2, NCP Recommendations; pages 136-138 and Table 11.8, analysis of the measure; Figure 11.9 and Table 11.9, page 165, Estimated Population and Sensitive Receptors for 2005 DNL Alternatives).

FAA Action: Approved on a voluntary basis during clam winds as traffic, weather, and airspace safety and efficiency permit. The NCP shows the preferred use of Runway 14 would reduce the population within the DNL 60 dB impacted by nine people (Figure 11.9 and Table 11.9.).

4. New Runway 9L/27R Preferred for Flight Training to the Extent Possible

During the five-year planning timeframe, FPR will construct a parallel runway 9L-27R. This runway is designed to accommodate flight-training aircraft, which are prevalent at FPR. (Sponsor supplemental letter dated May 15, 2006; NCP, pages ES-2, NCP Recommendations; 160-162, and page 165, Figures 11.18 and 11.20; and Table 11.15).

FAA Action: Approved on a voluntary basis as traffic, weather, and airspace safety and efficiency permit. The FPR Air Traffic Control Tower has stated that multiengine training would remain primarily on the existing runway once the proposed parallel runway is constructed. Capacity considerations could also affect the number of operations on the new runway. Further, this measure must not be construed as a mandatory procedure for noise abatement purposes. The FAA is not responsible for monitoring or regulating the number/volume of operations other than for safety and efficiency, nor is it responsible for “enforcing” noise abatement/voluntary actions. The FPR ATCT will select runways and procedures that maximize the efficiency of air traffic flow at all times; noise abatement procedures are voluntary and may be used when operating conditions permit. By shifting a portion of training operations to this runway, an overall reduction in the number of persons affected by noise would occur. Figures 5.10a and 5.10b illustrate touch-and-go flight tracks would occur primarily over airport property, thereby benefiting populations outside the 65 DNL noise contour by reducing over flights over those noise sensitive areas.

5. Jet Aircraft Use “Close-in” Noise Abatement Departure Profile

Recommend the voluntary use of “close-in” noise abatement departure profiles for use by jet aircraft operators on all runways. The existing FPR noise abatement program requests that jet pilot use NBAA noise abatement departure profiles to minimize noise exposure in residential areas immediately off the runway ends. (Sponsor supplemental letter dated May 15, 2006; NCP, page ES-2, NCP Recommendations; pages 141-142, Figure 11.17; and Table 11.12).

FAA Action: Approved as a continuation of a voluntary measures as traffic, weather, and airspace safety and efficiency permit. The referenced Figures and Tables in the NCP show a benefit on a single event basis when this procedure is used. The decision on how to operate each aircraft that uses St. Lucie County International Airport remains with the pilot in command.

6. Study the Feasibility of a 1,500-foot Westward Shift of Runway 9R/27R

The shift of Runway 9/27 to the west would alleviate over flight of aircraft over residential neighborhoods. The analysis indicates there would be a reduction of approximately 50 percent in the number of currently affected persons in the 60-65 DNL contour intervals and the elimination of all currently affected persons in the 65-70 DNL contour. (Sponsor supplemental letter dated May 15, 2006; NCP, page ES-2, NCP Recommendations; pages 162-163; and Table 11.16).

FAA Action: Approved for further study. The NCP recommends this measure be further studied. Table 11.16 shows a reduction in DNL impacts to 95 people and 3 sensitive receptors in the long-range timeframe. If the study results in a final recommendation to shift the runway 1,500 feet, it may not be implemented unless it meets all applicable FAA criteria. These criteria include, but may not be limited to, addressing the National Environmental Policy Act, 14 CFR part 150 study update criteria, applicable airspace and operational criteria, and airport standards criteria. Federal funding assistance will be based on availability of funds and justification at the time of application.

Land Use Measures

1. Update County Airport Zoning Regulations

Consistent with Florida statute and with Florida DOT's District 4 recommendations, updated county regulations would include: Add 4 NM airport notification; add school construction zones per Florida State Chapter 333; publish noise zones at least three times a year; require noise easements and/or sound insulation for new residential construction within the DNL 60 dB noise contour. (Sponsor supplemental letter dated May 15, 2006; NCP at page ES-2, NCP Recommendations; pages 182-184 and Table 12.2 at page 185; page 189; and page 194, Recommended Land Use Compatibility Alternatives at section 12.6. Also see Figures 12.6, and 12.7.)

FAA Action: Approved. The Federal government has no authority to control local land use; the local government has the authority to implement this measure. Approval of this measure does not commit the FAA to federal funding assistance.

2. Provide Ability to St. Lucie County to Purchase Land, Aviation Easements, or Other Remedies to Minimize the Development of Noncompatible Land Uses

This recommendation includes approval of remedial land use recommendations so the County may acquire land relocate existing residences within the current conditions (2005) DNL 60 dB notice contour (see Table 10.2), or to alternately provide sound insulation or noise easements for homes within that noise contour. (Sponsor supplemental letter dated May 15, 2006; NCP, pages ES-2, Table 10.2 at page 123, and page 194 section 12.6).

FAA Action: Disapproved for purposes of Part 150 with respect to Airport Improvement Program (AIP) Funding. The areas proposed for mitigation lie solely outside the DNL 65 dB noise contour. Section 189 of Public Law 108-176, Vision 100-Century of Aviation Reauthorization Act, December 12, 2003 specifically prohibits FAA approval of Part 150 program measures that require AIP funding to mitigate aircraft noise outside DNL 65 dB (through Fiscal Year 2007). section 189 does not preclude the use of airport revenue outside DNL 65 dB. Also, the FAA reminds the County of its policy that no structures built after October 1, 1998, are eligible for Federal funding for remedial mitigation (see FAA policy at 63 FR 16409).

Implementation Measures

1. Pilot Education Program

St. Lucie County would publish noise abatement information to enhance pilot participation. This is a continuation of an existing measure. FPR has an established voluntary noise abatement program that has been developed in close coordination with airport neighbors and users. This program is published on the airport's Web site and distributed to all tenants on the airport. In addition, publications are distributed to all flight schools at other area airports to familiarize them with FPR's noise abatement policies. (Sponsor supplemental letter dated May 15, 2006; NCP, page ES-3, NCP Recommendations; Section 12.7 of NCP, “Implementation Related Elements” page 195).

FAA Action: Approved. Inserts or other information must not be construed as mandatory air traffic procedures; the content of the inserts are subject to specific approval by appropriate FAA officials outside of the FAR Part 150 process and are not approved in advance by this determination.

2. Community Information Program

St. Lucie County will publish noise contours at least three times a year in a local paper of largest circulation and notify the board of realtors. The pilot education program (IM-1, above) will effectively reach the operators at FPR and will be structured to meet the needs of pilots. This information must be translated into easy to understand terminology and details for the general public. (Sponsor supplemental letter dated May 15, 2006; NCP, pages ES-2 and ES-3, NCP Recommendations, pages 182-184 and page 196)

FAA Action: Approved.

3. Routine review of NCP Implementation

This measure recommends that implementation of the NCP be received periodically to determine the need for update. At a minimum, it is recommended that the NEM be updated at the end of the five-year forecast period. (Sponsor supplemental letter dated May 15, 2006; NCP, pages ES-3, NCP Recommendations, and page 196).

FAA Action: Approved. An update to the NCP if made necessary be NEM changes would address requirements of 150.23(e)(9). The FAA clarifies herein the requirements of 150.21, as described in the NCP at pages ES-3 and 196. Section 150.21(d), as amended states that the NEM should be updated if there is either a substantial new noncompatible use within the DNL 65 dB contour, or if there is a significant reduction in noise over existing noncompatible land uses [69 FR 57622, dated 9/24/04].

4. FAA ATCT Procedures Development

The NCP contains several measures that will be implemented by the FAA and the local ATC staff. In order to document and formalize the recommended touch and go procedures, it is recommended a tower order be developed. Tower orders are typically implemented under a Memorandum of Agreement (MOA) between the airport sponsor (St. Lucie County) and the FAA. The sponsor will coordinate development of existing and recommended procedures (listed at page 197) with ATCT controllers to ensure continuity. Costs are not eligible for State or Federal funding. (Sponsor supplemental letter date May 15, 2006; NCP, page ES-3, NCP Recommendations, and page 196-197).

FAA Action: Approved in concept. Coordination between the sponsor and FAA could help ensure continuity. Not all measures listed on page 197 are appropriate for inclusion in a tower order. Existing and operational measures within the NCP and approved in this ROA, that normally would be included in a tower order (for example, the touch and go procedures and altitudes), may be appropriate for consideration. The FAA will determine the appropriate elements of the noise compatibility program to include in any tower order, and the language describing them, consistent with applicable Federal requirements.

5. Traffic Pattern Notification Lights for Training Aircraft

St. Lucie International Airport is home to one of the largest flight training schools in the Treasure Coast Region (see pages 182-184), with over 81,000 training operations per year. In order to minimize the repeated noise of training aircraft over residential areas located directly east of the airport, a system of permanently mounted lights is recommended to be installed along U.S. Highway 1 to act as a further landmark for student pilots, if practical, to initiate their downwind/upwind leg of the training operation when utilizing Runway 9/27. (Sponsor supplemental letter dated May 15, 2006; NCP page ES-3, NCP Recommendations, and page 197).

FAA Action: Disapproved. There is insufficient analysis of the placement of lighting or the expected noise benefits. There are no FAA-approved standard for traffic pattern notification lights.

6. Noise Office Staffing

St. Lucie County should continue to employ a noise office staff person. The monitoring of nighttime operations, program education, and compliance and complaint response are an integral part of the noise program. Costs for this position are not eligible for FAA funding. (Sponsor supplemental letter dated May 15, 2006; NCP, page ES-3, NCP Recommendations; and page 198.)

FAA Action: Approved.

These determinations are set forth in detail in a Record of Approval signed by the FAA on August 21, 2006. The Record of Approval, as well as other evaluation materials and the documents comprising the submittal, are available for review at the FAA office listed above and at the administrative office of the St. Lucie County Board of County Commissioners. The Record of Approval also will be available on-line at http://www.faa.gov/arp/environmental/14cfr150/index14.cfm.

Issued in Orlando, Florida, on October 4, 2006.
W. Dean Stringer,
Manager, Orlando, Airports District Office.

[FR Doc. 06-8790 Filed 10-19-06; 8:45 am]

BILLING CODE 4910-13-M